DEPARTMENT OF STATE

[Public Notice 6652]

Advisory Committee for the Study of Eastern Europe and the Independent States of the Former Soviet Union (Title VIII)

The Advisory Committee for the Study of Eastern Europe and the Independent States of the Former Soviet Union (Title VIII) will convene on Friday, June 19, 2009 beginning at 1:30 p.m. in Room 1406 of the U.S. Department of State, Harry S Truman Building, 2201 C Street, NW., Washington, DC, and lasting until approximately 2:30 p.m.

The Advisory Committee will recommend grant recipients for the FY 2009 competition of the Program for the Study of Eastern Europe and the Independent States of the Former Soviet Union in accordance with the Research and Training for Eastern Europe and the Independent States of the Former Soviet Union Act of 1983, Public Law 98-164, as amended. The agenda will include opening statements by the Chairman and members of the committee, and, within the committee, discussion, approval and recommendation that the Department of State negotiate grant agreements with certain “national organizations with an interest and expertise in conducting research and training concerning the countries of Eastern Europe and the Independent States of the Former Soviet Union,” based on the guidelines contained in the call for applications published in Grants.gov on February 9, 2009. Following committee deliberation, interested members of the public may make oral statements concerning the Title VIII program in general.

This meeting will be open to the public; however, attendance will be limited to the seating available. Entry into the Harry S Truman building is controlled and must be arranged in advance of the meeting. Those planning to attend should notify the Title VIII Program Office at the U.S. Department of State on (202) 736-4661 by Wednesday, June 17, providing the following information: Full Name, Date of Birth, Driver's License Number, Country of Citizenship, and any requirements for special accommodation. All attendees must use the 2201 C Street entrance and must arrive no later than 1:15 p.m. to pass through security before entering the building. Visitors who arrive without prior notification and without photo identification will not be admitted.

Dated: June 1, 2009.
Susan Nelson,
Executive Director, Advisory Committee for Study of Eastern Europe and Eurasia (the Independent States of the Former Soviet Union), Department of State.

[FR Doc. E9-13156 Filed 6-4-09; 8:45 am]

BILLING CODE 4710-32-P